DEPARTMENT OF ENERGY

Federal Energy Regulatory Commission

[Project No. 15293-001]

Nature and People First New Mexico PHS, LLC; Notice of Preliminary Permit Application Accepted for Filing and Soliciting Comments, Motions To Intervene, and Competing Applications

On July 12, 2023, Nature and People First New Mexico PHS, LLC, filed an application for a preliminary permit, pursuant to section 4(f) of the Federal Power Act (FPA), proposing to study the feasibility of the Chuska Mountain Pumped Storage Project to be located in San Juan and McKinley Counties, New Mexico, near the San Juan River, and approximately 5.6 miles west of the town of Two Grey Hills on Navajo Nation Lands. The sole purpose of a preliminary permit is to grant the permit holder priority to file a license application during the permit term. A preliminary permit does not authorize the permit holder to perform any land-disturbing activities or otherwise enter upon lands or waters owned by others without the owners' express permission.

The pumped storage hydropower project would consist of all new facilities including: (1) Upper Reservoir North with a surface area of 15,800 acres and a storage volume of 500,000 acre-feet at a maximum water surface elevation (WSE) of 8,810 above mean sea level (msl); (2) Upper Reservoir Center with a surface area of 7,400 acres and a storage volume of 235,000 acre-feet at a maximum WSE of 8,810 feet msl; (3) Upper Reservoir South with a surface area of 16,300 acres and a storage volume of 510,000 acre-feet at a maximum WSE of 8,810 feet msl; (4) Lower Reservoir North 1 with a surface area of 9,000 acres and a storage volume of 385,000 acre-feet at a maximum WSE of 6,010 feet msl; (5) Lower Reservoir North 2 with a surface area of 2,700 acres and a storage volume of 115,000 acre-feet at a maximum WSE of 6,010 feet msl; (6) Lower Reservoir Center with a surface area of 2,900 acres and a storage volume of 235,000 acre-feet at a maximum WSE of 6,010 feet msl; (7) Lower Reservoir South with a surface area of 3,200 acres and a storage volume of 510,000 acre-feet at a maximum WSE of 6,010 feet msl; (8) a 30-foot-wide and 39,800-foot-long concrete-lined power conduit tunnel to North Powerhouse 1; (9) a 60-foot-wide, 700-foot-long, and 100-foot high subterranean North Powerhouse 1 with seven pump/turbines each rated at 250 megawatts (MW); (10) seven 12-foot-wide and 1,000-foot-long concrete lined North Powerhouse 1 conduit tunnels discharging into Lower Reservoir North 1; (11) a 30-foot-wide and 19,800-foot-long concrete-lined power conduit to Powerhouse 2; (12) a 60-foot-wide, 700-foot-long, and 100-foot-high subterranean North Powerhouse 2 with seven pump/turbines each rated at 250 MW; (13) seven 12-foot-wide and 1,000-foot-long concrete lined North Powerhouse 2 conduit tunnels discharging into Lower Reservoir North 2; (14) a 30-foot-wide and 43,300-foot-long concrete-lined tunnel power conduit to the Center Powerhouse; (15) a 60-foot-wide, 700-foot-long, and 100-foot-high subterranean Center Powerhouse with seven pump/turbines each rated at 250 MW; (16) seven 12-foot-wide and 1,000-foot-long concrete lined North Powerhouse 1 conduit tunnels discharging into Lower Reservoir Center; (17) a 45-foot-wide and 30,300-foot-long concrete lined tunnel to the South Powerhouse; (18) a 60-foot-wide, 1,400-foot-long, and 100-foot-high subterranean South Powerhouse with 15 pump/turbines each rated at 250 MW; (19) fifteen 12-foot-wide, 1,000-foot-long concrete-lined tunnels discharging into Lower Reservoir South; and (20) approximately 100 miles of 345-kilovolt transmission lines for interconnection to the existing Shiprock, San Juan, and Four Corners substations. The estimated annual energy production of the project would be approximately 19,710,000 megawatt hours.

Applicant Contact: Mr. Denis Payre, Nature and People First New Mexico PHS, LLC, 405 Waltham St., Suite 145, Lexington, MA 02421; email: denis.payre@natureandpeoplefirst.com; phone: (781) 491-5364.

FERC Contact: Shannon Archuleta; email: shannon.archuleta@ferc.gov; phone (503) 552-2739.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERC.aspx. Commenters can submit brief comments up to 6,000 characters without prior registration using the eComment system at https://ferconline..gov/QuickComment.aspx. You must include your name and contact information at the end of your comments. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15293-001.

More information about this project, including a copy of the application, can be viewed on the Commission's website (http://www.ferc.gov) using the “eLibrary” link. Enter the docket number (P-15293) in the docket number field to access the document. For assistance, do not hesitate to get in touch with FERC Online Support.

Dated: October 31, 2023.
Kimberly D. Bose,
Secretary.

[FR Doc. 2023-24465 Filed 11-3-23; 8:45 am]

BILLING CODE 6717-01-P